DEPARTMENT OF THE INTERIOR

National Park Service

[NPS-WASO-NAGPRA-NPS0030483; PPWOCRADN0-PCU00RP14.R50000]

Notice of Inventory Completion: The Charleston Museum, Charleston, SC

AGENCY: National Park Service, Interior.

ACTION: Notice.

SUMMARY: The Charleston Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to The Charleston Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to The Charleston Museum at the address in this notice by August 31, 2020.

ADDRESSES: Martha Zierden (Curator of Historical Archaeology), Jennifer McCormick (Chief of Collections), The Charleston Museum, 360 Meeting Street, Charleston, SC 29403, telephone (843) 722-2996 Ext. 225 or Ext. 244, email mzierden@charlestonmuseum.org or jmccormick@charlestonmuseum.org.

SUPPLEMENTARY INFORMATION: Notice is here given in accordance with the Native American Graves Protection and Repatriation Act (NAGPRA), 25 U.S.C. 3003, of the completion of an inventory of human remains under the control of The Charleston Museum, Charleston, SC. The human remains were removed from Patterson Farm, near Duck River, Humphreys County, TN.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by The Charleston Museum professional staff in consultation with representatives of The Chickasaw Nation.

History and Description of the Remains

In 1933, human remains representing, at minimum, one individual (ANP-46) were removed from Patterson Farm in Humphreys County, TN. On or about May of 1933, Dr. Woldemar H. Ritter collected cultural materials and four fragments of human remains from the surface and plowed fields of Patterson Farm in Humphreys County, TN. The human remains, along with other cultural materials, were donated to The Charleston Museum by the widow of W.H. Ritter on May 23, 1941. Mrs. Ritter resided in East Hartford, CT, at that time. No other information on the site, or the collecting method, is available. No known individual was identified. No associated funerary objects are present. (Mrs. Ritter donated 35 objects collected from the Patterson Farm property, which The Charleston Museum has determined are not associated funerary objects. They include marine snails, sandstone pebbles, chert flakes and scrapers, and Adena-type knife or spear point, a Palmer-type point, triangular points. Decorated potsherds from the Woodland period belong to the Decatur and Harmon's Creek cultures.)

Determinations Made by The Charleston Museum

Officials of The Charleston Museum have determined that:

• Pursuant to 25 U.S.C. 3001(9), the human remains described in this notice represent the physical remains of one individual of Native American ancestry.

• Pursuant to 25 U.S.C. 3001(2), there is a relationship of shared group identity that can be reasonably traced between the Native American human remains and The Chickasaw Nation.

Additional Requestors and Disposition

Lineal descendants or representatives of any Indian Tribe or Native Hawaiian organization not identified in this notice that wish to request transfer of control of these human remains should submit a written request with information in support of the request to Martha Zierden (Curator of Historical Archaeology) and Jennifer McCormick (Chief of Collections), The Charleston Museum, 360 Meeting Street, Charleston, SC 29403, telephone (843) 722-2996 Ext. 225 or Ext. 244, email mzierden@charlestonmuseum.org or jmccormick@charlestonmuseum.org, by August 31, 2020. After that date, if no additional requestors have come forward, transfer of control of the human remains to The Chickasaw Nation may proceed.

The Charleston Museum is responsible for notifying The Chickasaw Nation that this notice has been published.

Dated: June 18, 2020.
Melanie O'Brien,
Manager, National NAGPRA Program.

[FR Doc. 2020-16497 Filed 7-29-20; 8:45 am]

BILLING CODE 4312-52-P